DEPARTMENT OF COMMERCE

National Oceanic and Atmospheric Administration

RIN 0648-XG891

New England Fishery Management Council; Public Meetings

AGENCY: National Marine Fisheries Service (NMFS), National Oceanic and Atmospheric Administration (NOAA), Commerce.

ACTION: Notice; public listening sessions.

SUMMARY: The New England Fishery Management Council (Council) will hold seven listening sessions and one webinar to solicit public comments on a possible limited access program for the recreational party and charter fishery to the Northeast Multispecies (groundfish) Fishery Management Plan.

DATES: Written public comments must be received on or before 5 p.m. EST, Friday, May 17, 2019. These meetings will be held between April 4, 2019 and May 10, 2019. For specific dates and times see SUPPLEMENTARY INFORMATION.

ADDRESSES: The hearings will be held in Seabrook, NH, Avalon, NJ, Wells, ME, Narragansett, RI, Chatham, MA, Plymouth, MA and Gloucester, MA. For specific locations, see SUPPLEMENTARY INFORMATION.

Public comments: Mail to Thomas A. Nies, Executive Director, New England Fishery Management Council, 50 Water Street, Mill #2, Newburyport, MA 01950. Mark the outside of the envelope “Listening Sessions for the Recreational Northeast Multispecies (Groundfish) Party and Charter Fishery”. Comments may also be sent via fax to (978) 465-3116 or submitted via email to comments@nefmc.org with “Listening Sessions for the Recreational Northeast Multispecies (Groundfish) Party and Charter Fishery” in the subject line.

FOR FURTHER INFORMATION CONTACT: Thomas Nies, Executive Director, New England Fishery Management Council; telephone: (978) 465-0492.

SUPPLEMENTARY INFORMATION: The Council is seeking public input on the possibility of developing a limited access program for the recreational groundfish party and charter fishery. After information is gathered through the listening sessions, the Groundfish Committee will consider possibly recommending to the Council an initiation of an amendment, with input from the Recreational Advisory Panel and Groundfish Plan Development Team, through a series of public meetings during 2019. The schedule is as follows:

1. Thursday, April 4, 2019 from 5:45 p.m.-7:45 p.m.; Seabrook Public Library, 25 Liberty Lane, Seabrook, NH; phone: (603) 474-2044.

2. Monday, April 8, 2019 from 6-8 p.m.; Icona Golden Inn, 7849 Dune Drive, Avalon, NJ; phone: (609) 368-5155.

3. Thursday, April 18, 2019 from 5:45-7:45 p.m.; Wells Public Library, 1434 Post Road, Wells, ME; phone: (207) 646-8181.

4. Tuesday, April 23, 2019 from 6-8 p.m.; Corless Auditorium, University of Rhode Island, Graduate School of Oceanography, 215 South Ferry Road, Narragansett, RI 02882; phone: (401) 874-6222.

5. Tuesday, May 7, 2019 from 6-8 p.m.: Chatham Community Center, 702 Main Street, Chatham, MA 02633; phone: (508) 945-5175

6. Wednesday, May 8, 2019 from 6-8 p.m.; Hampton Inn, 10 Plaza Way, Plymouth, MA; phone: (508) 747-5000.

7. Thursday, May 9, 2019 from 5:45- 7:45 p.m.; Sawyer Free Library, 2 Dale Avenue, Gloucester, MA; phone: (978) 281-9763.

8. Friday, May 10, 2019 from 1-3 p.m.; Webinar Session; Register to participate https://attendee.gotowebinar.com/register/8873736532644639746. Audio only call +1 (213) 929-4232; access code 494-243-526.

Additional information is available on the Council website, https://www.nefmc.org/library/limited-access-listening-sessions-for-recreational-fisheries. The public also should be aware that the sessions will be recorded. Consistent with 16 U.S.C. 1852, a copy of the recording is available upon request.

Special Accommodations

These meetings are physically accessible to people with disabilities. Requests for sign language interpretation or other auxiliary aids should be directed to Thomas Nies (see ADDRESSES), at least 5 working days prior to the meeting date.

Authority: 16 U.S.C. 1801 et seq.

Dated: March 14, 2019.
Rey Israel Marquez,
Acting Deputy Director, Office of Sustainable Fisheries, National Marine Fisheries Service.

[FR Doc. 2019-05122 Filed 3-18-19; 8:45 am]

BILLING CODE 3510-22-P